DEPARTMENT OF ENERGY

Federal Energy Regulatory Commission

Notice of Availability of the Draft Environmental Impact Statement for the Proposed Lake Charles Liquefaction Project

Trunkline Gas Company, LLC | Docket Nos. CP14-119-000.
Lake Charles LNG Company, LLC | CP14-120-000.
Lake Charles LNG Export Company, LLC | CP14-122-000.

The staff of the Federal Energy Regulatory Commission (FERC or Commission) has prepared a draft environmental impact statement (EIS) for the Lake Charles Liquefaction Project, proposed by Trunkline Gas Company, LLC (Trunkline), Lake Charles LNG Company, LLC, and Lake Charles LNG Export Company, LLC in the above-referenced dockets. Trunkline requests authorization to construct, install, and operate new natural gas pipeline and compression facilities and meter stations; modify certain existing pipeline facilities; modify certain compressor and meter stations; and abandon one compressor unit in the states of Arkansas, Mississippi, and Louisiana (collectively referred to as the Non-Liquefaction Facilities). Lake Charles LNG Company, LLC and Lake Charles LNG Export Company, LLC (collectively referred to as Lake Charles LNG) jointly request authorization to site, construct, and operate new liquefaction facilities adjacent to an existing liquefied natural gas (LNG) terminal located in Calcasieu Parish, Louisiana, and to construct and operate certain facility modifications at the existing LNG terminal. The new liquefaction facilities would have a design production capacity of 16.45 million metric tons of LNG per annum.

Lake Charles LNG Company, LLC also requests authorization to abandon certain terminal facilities previously certificated under the Natural Gas Act (NGA) section 7; abandon services provided under its existing FERC Gas Tariff and Certificates of Public Convenience and Necessity; cancel its FERC Gas Tariff, including all rate schedules therein; and convert such certificated facilities and operation under NGA section 3, so that the entirety of the company's facilities and operations are authorized solely under NGA section 3.

The draft EIS assesses the potential environmental effects of construction and operation of the Lake Charles Liquefaction Project in accordance with the requirements of the National Environmental Policy Act. The FERC staff concludes that approval of the proposed project would have some adverse environmental impacts; however, most of these impacts would be reduced to less-than-significant levels with the implementation of Lake Charles LNG's and Trunkline's proposed mitigation and the additional measures recommended in the draft EIS.

The U.S. Army Corps of Engineers, U.S. Coast Guard, U.S. Department of Energy, U.S. Fish and Wildlife Service, and U.S. Department of Transportation participated as cooperating agencies in the preparation of the draft EIS. Cooperating agencies have jurisdiction by law or special expertise with respect to resources potentially affected by a proposal and participate in the National Environmental Policy Act analysis. Although the cooperating agencies provided input on the conclusions and recommendations presented in the draft EIS, the agencies will present their own conclusions and recommendations in their respective records of decision or determinations for the project.

The draft EIS addresses the potential environmental effects of the construction, modification, and operation of the following project facilities:

• Three liquefaction trains, each with a production capacity sufficient to produce 5.48 million metric tons per annum of LNG for export (each train would contain metering and gas treatment facilities, liquefaction and refrigerant units, safety and control systems, and associated infrastructure);

• modifications and upgrades at the existing LNG terminal;

• about 0.5 mile of 48-inch-diameter feed gas line to supply natural gas to the liquefaction facility from existing gas transmission pipelines;

• approximately 17.9 miles of 24- and 42-inch-diameter natural gas pipeline;

• a new 98,685 horsepower (hp) compressor station;

• abandonment of a 3,000-hp compressor unit, installation of a 15,002-hp unit, and piping modifications at one existing compressor station;

• modification of station piping at three other existing compressor stations;

• five new meter stations and modifications and upgrades of five existing meter stations;

• modification of certain existing pipeline facilities; and

• construction of miscellaneous auxiliary and appurtenant facilities.

The FERC staff mailed copies of the draft EIS to federal, state, and local government representatives and agencies; elected officials; environmental and public interest groups; Native American tribes; potentially affected landowners; other interested individuals and non-governmental organizations; newspapers and libraries in the project area; and parties to this proceeding. Paper copy versions of this EIS were mailed to those specifically requesting them; all others received a compact disk version. In addition, the draft EIS is available for public viewing on the FERC's Web site (www.ferc.gov) using the eLibrary link. A limited number of hardcopies are available for distribution and public inspection at: Federal Energy Regulatory Commission, Public Reference Room, 888 First Street NE., Room 2A, Washington, DC 20426, (202) 502-8371.

Any person wishing to comment on the draft EIS may do so. To ensure consideration of your comments on the proposal in the final EIS, it is important that the Commission receive your comments on or before June 1, 2015.

For your convenience, there are four methods you can use to submit your comments to the Commission. In all instances, please reference the project docket number(s) (CP14-119-000, CP14-120-000, and CP14-122-000) with your submission. The Commission encourages electronic filing of comments and has expert staff available to assist you at (202) 502-8258 or efiling@ferc.gov.

(1) You can file your comments electronically using the eComment feature on the Commission's Web site (www.ferc.gov) under the link to Documents and Filings. This is an easy method for submitting brief, text-only comments on a project.

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type.

(3) You can file a paper copy of your comments by mailing them to the following address: Kimberly D. Bose, Secretary, Federal Energy Regulatory Commission, 888 First Street NE., Room 1A, Washington, DC 20426.

(4) In lieu of sending written or electronic comments, the Commission invites you to attend a public comment meeting its staff will conduct in the project area to receive comments on the draft EIS. We encourage interested groups and individuals to attend and present oral comments on the draft EIS. A transcript of the meeting will be available for review in eLibrary under the project docket numbers. The meeting will begin at 7:00 p.m. and is scheduled as follows:

Date | Location
May 7, 2015 | Holiday Inn Lake Charles—W. Sulphur, 330 Arena Road, Sulphur, Louisiana 70665, (337) 527-0858.

Any person seeking to become a party to the proceeding must file a motion to intervene pursuant to Rule 214 of the Commission's Rules of Practice and Procedures (Title 18 Code of Federal Regulations Part 385.214).¹ Only intervenors have the right to seek rehearing of the Commission's decision. The Commission grants affected landowners and others with environmental concerns intervenor status upon showing good cause by stating that they have a clear and direct interest in this proceeding that no other party can adequately represent. Simply filing environmental comments will not give you intervenor status, but you do not need intervenor status to have your comments considered.

¹ See the previous discussion on the methods for filing comments.

Questions?

Additional information about the project is available from the Commission's Office of External Affairs, at (866) 208-FERC, or on the FERC Web site (www.ferc.gov) using the eLibrary link. Click on the eLibrary link, click on “General Search,” and enter the docket number(s) excluding the last three digits in the Docket Number field (i.e., CP14-119, CP14-120, and CP14-122). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: April 10, 2015.
Kimberly D. Bose,
Secretary.

[FR Doc. 2015-08740 Filed 4-15-15; 8:45 am]

BILLING CODE 6717-01-P